DEPARTMENT OF HOMELAND SECURITY

Federal Emergency Management Agency

[Docket ID: FEMA-2022-0039; OMB No. 1660-0072]

Agency Information Collection Activities: Proposed Collection; Comment Request; FEMA Mitigation Grant Programs

AGENCY: Federal Emergency Management Agency, Department of Homeland Security.

ACTION: 60-Day notice of revision and request for comments.

SUMMARY: The Federal Emergency Management Agency (FEMA), as part of its continuing effort to reduce paperwork and respondent burden, invites the general public and other Federal agencies to take this opportunity to comment on an extension, with change, of a currently approved information collection. In accordance with the Paperwork Reduction Act of 1995, this notice seeks comments concerning FEMA's Hazard Mitigation Assistance (HMA) financial and technical assistance programs; specifically, the Pre-Disaster Mitigation Program (PDM), the Building Resilient Infrastructure and Communities (BRIC) program, BRIC Direct Technical Assistance (DTA), and the Flood Mitigation Assistance (FMA) program.

DATES: Written comments must be received on or before January 23, 2023.

ADDRESSES: Submit comments at www.regulations.gov under Docket ID FEMA-2022-0039. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Jennie Orenstein, Branch Chief, Policy, Tools and Training Branch, Federal Insurance and Mitigation Administration, FEMA, at jennie.gallardy@fema.dhs.gov and 202-212-4071. You may contact the Records Management Division for copies of the proposed collection of information at FEMA-Information-Collections-Management@fema.dhs.gov.

SUPPLEMENTARY INFORMATION: This collection of information is necessary to implement grants for the FMA, PDM, and BRIC programs.

The FMA program is authorized pursuant to the National Flood Insurance Act of 1968, as amended (Pub. L. 90-448, 42 U.S.C. 4104c). FMA was created as part of the National Flood Insurance Reform Act (NFIRA) of 1994 (Pub. L. 103-325, 42 U.S.C. 4001). The Biggert-Waters Flood Insurance Reform Act of 2012 (BW-12), Pub. L. 112-141, 42 U.S.C. 4001) consolidated the Repetitive Flood Claims (RFC) and Severe Repetitive Loss grant (SRL) programs into FMA. Under FMA, cost-share requirements were changed to allow more Federal funds for properties with repetitive flood claims. The FMA program, under 44 CFR part 77 (October 1, 2021; previously under 44 CFR part 79), provides funding for measures taken to reduce or eliminate the long-term risk of flood damage to buildings, manufactured homes, and other structures insured under the National Flood Insurance Program (NFIP). PDM was authorized under Section 203 of the Robert T. Stafford Disaster Relief and Emergency Assistance Act (Stafford Act), (Public Law 93-288, 42 U.S.C. 5133).

On August 4, 2020, FEMA established the BRIC program, implementing section 1234 of Disaster Recovery Reform Act (DRRA) (Pub. L. 93-288, 42 U.S.C. 5121 et seq.), which amended Section 203 of the Stafford Act (Pub. L. 93-288, 42 U.S.C. 5133). The BRIC program is designed to promote a national culture of preparedness and public safety through encouraging investments to protect our communities and infrastructure and through strengthening national mitigation capabilities to foster resilience. The BRIC program seeks to fund effective and innovative projects that will reduce risk, increase resilience, and serve as a catalyst to encourage the whole community to invest in and adopt policies related to mitigation.

The guiding principles of the BRIC program include (1) support State and local governments, Tribes, and territories through capability- and capacity-building to enable them to identify mitigation actions and implement projects that reduce risks posed by natural hazards; (2) encourage and enable innovation while allowing flexibility, consistency, and effectiveness; (3) promote partnerships and enable high-impact investments to reduce risk from natural hazards with a focus on critical services and facilities, public infrastructure, public safety, public health, and communities; (4) provide a significant opportunity to reduce future losses and minimize impacts on the Disaster Relief Fund; (5) promote equity, including by helping members of disadvantaged groups and prioritizing 40 percent of the benefits to disadvantaged communities as referenced in Executive Order (E.O.) 14008, Tackling the Climate Crisis At Home and Abroad, (86 FR 7619, Feb. 1, 2021) which describes the Administration's Justice40 Initiative; and (6) support the adoption and enforcement of building codes, standards, and policies that will protect the health, safety, and general welfare of the public, taking into account future conditions, prominently including the effects of climate change, and have long-lasting impacts on community risk reduction, including for critical services and facilities and for future disaster costs. The BRIC program distributes funds annually and applies a Federal/Non-Federal cost share. To increase transparency in decision-making while building capability and partnerships, FEMA convenes a National Review Panel to score subapplications based on qualitative evaluation criteria.

The BRIC program is authorized under section 203 of the Stafford Act to provide technical assistance for implementing predisaster hazard mitigation measures. BRIC implements this authority by providing non-financial DTA to eligible communities. The DTA initiative is specifically designed to assist economically disadvantaged rural communities, tribal entities, and Justice40 underserved communities. The Justice40 Initiative provides guidance on implementing environmental justice and equitable implementation of program resources. DTA delivers hazard mitigation assistance to communities who face resource barriers that prevent access to Hazard Mitigation grants and other Federal assistance grants.

In accordance with 2 CFR 200.203, FEMA requires all parties interested in receiving FEMA mitigation grants to submit an application package for grant assistance. Applications and subapplications for BRIC and FMA are submitted via FEMA GO. FEMA GO is the new system of record for grants for new grant applications beginning in Fiscal Year (FY) 2020.

The Mitigation (MT) eGrants system is used to manage FY 2022 FMA Swift Current grants, FMA annual grants awarded prior FY 2019 and Pre-Disaster Mitigation grant program offerings. The MT eGrants system is an intuitive, user-friendly, web-based application owned and operated by FIMA that allows eligible applicants and subapplicants to apply for grants and subgrants through the internet. MT eGrants is both an internal (FEMA-facing) system and an external facing system. The FEMA GO and MT eGrants systems were developed to meet the intent of the e-Government initiative, authorized by Federal Financial Assistance Management Improvement Act of 1999 (Pub. L. 106-107, 31 U.S.C. 6101). This initiative requires that all Government agencies both streamline grant application processes and provide for the means to electronically create, review, and submit a grant application via the internet.

Under 2 CFR part 200 (for BRIC and PDM) and 44 CFR 77.3 (FMA), Recipients must complete and submit progress report(s) to the FEMA Regional Administrator on a quarterly basis, certifying how the funds are being used and reporting on the progress of activities funded under the subrecipient awards made to the Recipient by FEMA. The Regional Administrator and Recipient negotiate the date for submission of the first report.

The Benefit Cost Determination is used to collect data to evaluate the proposed project's cost effectiveness. Mitigation projects must be cost effective to be eligible for Hazard Mitigation Assistance funding. Cost effectiveness is demonstrated through a FEMA-validated benefit cost analysis. The Environmental and Historic Preservation Review is used to collect information that is needed to ensure that a proposed project complies with applicable environmental and historic preservation regulations and laws. This information is collected to assure that adverse project impact is minimized according to the National Environmental Policy Act of 1969 (NEPA), as amended (Pub. L. 91-190, 42 U.S.C. 4321-4347); The Endangered Species Act of 1973 (ESA) (Pub. L. 93-205, 16 U.S.C. 1531); The National Historic Preservation Act of 1966 (Pub. L. 89-665, U.S.C. 16 U.S.C. 470); Executive Order (E.O.) 11988, Floodplain Management, (80 FR 6530, Feb. 5, 2015) regarding floodplains; and E.O. 11990 Protection of Wetlands (42 FR 26961, May 24, 1977) other applicable laws and executive orders. The Project Narrative—Subgrant Application process is used to collect the information necessary for FEMA to assess the financial needs of the applicants, as well as the projected benefits to be obtained from the use of grant funds for each of its mitigation grant programs. Quarterly Progress Reports describe the status of those projects on which a final payment of the Federal share has not been made to the Recipient and identify problems or circumstances expected to result in noncompliance with the approved award conditions.

Collection of Information

Title: FEMA Mitigation Grant Programs.

Type of Information Collection: Extension, with change, of a currently approved collection.

OMB Number: 1660-0072.

FEMA Forms: FEMA Form FF-206-FY-22-151, Quarterly Progress Report; FEMA Instruction FI-206-FY-22-102, Instructions to Recipients for Quarterly Progress Reports for FEMA's Building Resilient Infrastructure and Communities (BRIC), the Pre-Mitigation Disaster (PDM), and Flood Mitigation Assistance (FMA); FEMA Form FF-206-FY-22-155, BRIC DTA Request; FEMA Form FF-206-FY-22-158; Acknowledgement of Conditions For Properties Using FEMA Hazard Mitigation Assistance Grant Funds; FEMA Form FF-206-FY-22-157, Model Deed Restriction; and FEMA Form FF-206-FY-22-156, Model Statement of Assurances for Property Acquisition Projects.

Abstract: The Federal Emergency Management Agency's (FEMA's) Flood Mitigation Assistance (FMA) and Building Resilient Infrastructure and Communities (BRIC) programs use an automated grant application and management system called FEMA GO. The Pre-Disaster Mitigation (PDM) program and the FMA program also uses an automated grant application and management system called Mitigation (MT) eGrants. The FEMA GO and MT eGrants systems include application information needed to apply for funding under these grant programs. FEMA uses the BRIC Panel Review Form to solicit volunteers from State, local, Tribal governments and Other Federal Agencies (OFA), to review applications that are routed to the qualitative panel reviews. The volunteers will review, and score applications based on a pre-determined scoring criteria. The PDM, FMA, and BRIC programs will use the same FEMA Form FF-206-FY-22-151 Quarterly Progress Report (QPR) Form.

Affected Public: State, local or Tribal governments.

Estimated Number of Respondents: 617.

Estimated Number of Responses: 17,249.

Estimated Total Annual Burden Hours: 97,858.

Estimated Total Annual Respondent Cost: $5,914,144.

Estimated Respondents' Operation and Maintenance Costs: $0.

Estimated Respondents' Capital and Start-Up Costs: $0.

Estimated Total Annual Cost to the Federal Government: $7,739,695.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-25453 Filed 11-22-22; 8:45 am]

BILLING CODE 9111-BW-P